DEPARTMENT OF THE INTERIOR

National Park Service

[NPS-WASO-NAGPRA-NPS0037388; PPWOCRADN0-PCU00RP14.R50000]

Notice of Intent To Repatriate Cultural Items: Robert S. Peabody Institute of Archaeology, Andover, MA

AGENCY: National Park Service, Interior.

ACTION: Notice.

SUMMARY: In accordance with the Native American Graves Protection and Repatriation Act (NAGPRA), the Robert S. Peabody Institute of Archaeology intends to repatriate certain cultural items that meet the definition of unassociated funerary objects and that have a cultural affiliation with the Indian Tribes or Native Hawaiian organizations in this notice. The cultural items were removed from unknown locations in Tennessee and sites along the Little Tennessee River, Monroe County, TN.

DATES: Repatriation of the cultural items in this notice may occur on or after March 18, 2024.

ADDRESSES: Ryan J. Wheeler, Robert S. Peabody Institute of Archaeology, Phillips Academy, 180 Main Street, Andover, MA 01810, telephone (978) 749-4490, email rwheeler@andover.edu.

SUPPLEMENTARY INFORMATION: This notice is published as part of the National Park Service's administrative responsibilities under NAGPRA. The determinations in this notice are the sole responsibility of the Robert S. Peabody Institute of Archaeology. The National Park Service is not responsible for the determinations in this notice. Additional information on the determinations in this notice, including the results of consultation, can be found in the summary or related records held by the Robert S. Peabody Institute of Archaeology.

Description

Fourteen cultural items were removed from Monroe County, TN. The 14 unassociated funerary objects are two lots of ceramic sherds (271/01 and 271/15), one antler tool (271/02), one lot of unmodified shell (271/03), one shell ornament (271/04), three lots of chipped stone tools and tool-making debitage (271/05; 271/07, and 271/08), one obsidian pestle (271/09), three lots of ground stone tools (271/11; 271/13; and 271/17), one bone flute (271/19), and one stone axe (271/16). In 1942, George Sherwood removed cultural items from several historic Cherokee town sites along the Little Tennessee River above Fort Loudoun. Sherwood transferred the cultural items to the Robert S. Peabody Institute of Archaeology (then known as the Robert S. Peabody Foundation for Archaeology) in 1981.

Ninety-six cultural items were removed from unknown sites in Tennessee, likely northwestern Tennessee. The 96 unassociated funerary objects are three lots of stone anvils, one lot of stone axes, nine lots of stone bifaces, three lots of stone celts, nine lots chipped stone tools, one lot stone choppers, one lot stone cores, two lots stone debitage, four lots stone edge tools, two lots chipped stone flakes, three lots ground stone items, four lots hammerstones, nine lots knives, three lots miscellaneous stone tools, one lot mortars, one lot stone nodules, one lot pebbles, four lots stone perforators, two lots stone pestles, 24 lots chipped stone points, eight lot scrapers, and one large animal tooth. Catalog numbers for these cultural items range from 25433 through 25530, with the exception of Catalog ID 25434, which was not assigned. In 1903, Mollie Hall, a resident of Hopkinsville, KY, transferred 96 cultural items from Tennessee to the Robert S. Peabody Institute of Archaeology (then known as the Department of Archaeology, Phillips Academy). More detailed provenance was not given for the cultural items, though Hall may have been removing items from localities in northwestern Tennessee, near Hopkinsville, KY, where she lived.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, geographical information, historical information, and expert opinion.

Determinations

Pursuant to NAGPRA and its implementing regulations, and after consultation with the appropriate Indian Tribes and Native Hawaiian organizations, the Robert S. Peabody Institute of Archaeology has determined that:

• The 110 cultural items described above are reasonably believed to have been placed with or near individual human remains at the time of death or later as part of the death rite or ceremony and are believed, by a preponderance of the evidence, to have been removed from a specific burial site of a Native American individual.

• There is a relationship of shared group identity that can be reasonably traced between the cultural items and the Cherokee Nation; Eastern Band of Cherokee Indians; and the United Keetoowah Band of Cherokee Indians in Oklahoma.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 18, 2024. If competing requests for repatriation are received, the Robert S. Peabody Institute of Archaeology must determine the most appropriate requestor prior to repatriation. Requests for joint repatriation of the cultural items are considered a single request and not competing requests. The Robert S. Peabody Institute of Archaeology is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3004, and the implementing regulations, 43 CFR 10.9.

Dated: February 7, 2024.
Melanie O'Brien,
Manager, National NAGPRA Program.

[FR Doc. 2024-03091 Filed 2-14-24; 8:45 am]

BILLING CODE 4312-52-P